DEPARTMENT OF DEFENSE

Office of the Secretary

[Docket ID DoD-2009-OS-0131]

Privacy Act of 1974; System of Records

AGENCY: Defense Intelligence Agency, DoD.

ACTION: Notice to alter a system of records.

SUMMARY: The Defense Intelligence Agency is proposing to alter a system of records in its existing inventory of records systems subject to the Privacy Act of 1974, (5 U.S.C. 552a), as amended.

DATES: The proposed action will be effective on September 18, 2009 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency system of records notices subject to the Privacy Act of 1974, (5 U.S.C. 552a), as amended, have been published in the Federal Register and are available from the address above.

The proposed system report, as required by 5 U.S.C. 552a(r) of the Privacy Act of 1974, as amended, was submitted on August 12, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: August 12, 2009.
Patricia L. Toppings,
OSD Federal Register Liaison Officer, Department of Defense.

LDIA 05-0001

System name:

Human Resources Management System (HRMS) (March 6, 2008, 73 FR 12146).

Changes:

* * * * *

Routine uses of records maintained in the system, including categories of users and the purposes of such uses:

Add routine use “To the Office of the Director of National Intelligence (ODNI) for Intelligence Community-aggregrate workforce planning, analysis and reporting purposes. Records provided to the ODNI for this routine use will not include any individual's name or Social Security Number (SSN).”

* * * * *

LDIA 05-0001

System name:

Human Resources Management System (HRMS).

System location:

Defense Intelligence Agency, Washington, DC 20340-0001.

Categories of individuals covered by the system:

Current and former military and civilian personnel employed by or temporarily assigned to the DIA; current and former contract personnel; current and former civilian dependents, current and former military dependents assigned to the Defense Attaché System; and individuals applying for possible employment. DoD military, civilian, or contractor personnel nominated for security clearance/SCI access by DIA, and other DoD agencies and offices.

Categories of records in the system:

Records include, but are not limited to employment, security, education, training & career development, organizational and administrative information such as employee name, Social Security Number (SSN), addresses, phone numbers, emergency contacts and employee identification number, etc.

Authority for maintenance of the system:

The National Security Act of 1947, as amended, (50 U.S.C. 401 et seq.); 10 U.S.C. 113, Secretary of Defense; 5 U.S.C. 301, Departmental Regulations; 44 U.S.C. 3102, Establishment of program of management; and E.O. 9397 (SSN), as amended.

Purpose(s):

To collect employment and related information to perform numerous administrative tasks, to include preparing, submitting, and approving official personnel actions; personnel appraisals; and making decisions on benefits & entitlements. HRMS provides a central, official data source for the production of work force demographics, reports, rosters, statistical analysis, and documentation/studies.

Routine uses of records maintained in the system, including categories of users and the purposes of such uses:

In addition to those disclosures generally permitted under 5 U.S.C. 552a(b) of the Privacy Act, these records or information contained therein may specifically be disclosed outside the Department of Defense as a routine use pursuant to 5 U.S.C. 552a(b)(3) as follows:

The DoD `Blanket Routine Uses' set forth at the beginning of the Defense Intelligence Agency's compilation of systems of records notices apply to this system.

To the Office of the Director of National Intelligence (ODNI) for Intelligence Community-aggregrate workforce planning, analysis and reporting purposes. Records provided to the ODNI for this routine use will not include any individual's name or Social Security Number (SSN).

Policies and practices for storing, retrieving, accessing, retaining, and disposing of records in the system:

Storage:

Paper and electronic storage media.

Retrievability:

Name and employee identification number.

Safeguards:

The server hosting HRMS is located in a secure area under employee supervision 24/7. Records are maintained and accessed by authorized personnel via Defense Intelligence Agency's internal, classified network. These personnel are properly screened, cleared and trained in the protection of privacy information.

Retention and disposal:

Disposition pending (until the National Archives and Records Administration has approved retention and disposition of these records, treat as permanent).

System manager(s) and address:

Defense Intelligence Agency, Directorate of Human Capital, Office for Human Capital Online Services.

Notification procedure:

Individuals seeking to determine whether information about themselves is contained in this system of records should address written inquiries to the Freedom of Information Office, Defense Intelligence Agency (DAN-1A), 200 MacDill Blvd., Washington, DC 20340-5100.

Individuals should provide their full name, current address, telephone number and Social Security Number (SSN).

Record access procedures:

Individuals seeking access to information about themselves, contained in this system of records, should address written inquiries to the Freedom of Information Office, Defense Intelligence Agency (DAN-1A), 200 MacDill Blvd., Washington, DC 20340-5100.

Individuals should provide their full name, current address, telephone number and Social Security Number.

Contesting record procedures:

Defense Intelligence Agency's rules for accessing records, for contesting contents and appealing initial agency determinations are published in DIA Regulation 12-12 “Defense Intelligence Agency Privacy Program”; 32 CFR part 319—Defense Intelligence Agency Privacy Program; or may be obtained from the system manager.

Record Source Categories:

Agency officials, employees, educational institutions, parent Service of individual and immediate supervisor on station, and other Government officials.

Exemptions claimed for the system:

None.

[FR Doc. E9-19870 Filed 8-18-09; 8:45 am]

BILLING CODE 5001-06-P